DEPARTMENT OF ENERGY

Federal Energy Regulatory Commission

[Project No. 14550-000]

New England Hydropower Company, LLC; Notice of Preliminary Permit Application Accepted for Filing and Soliciting Comments, Motions To Intervene, and Competing Applications

On August 20, 2013, the New England Hydropower Company, LLC filed an application for a preliminary permit, pursuant to section 4(f) of the Federal Power Act (FPA), proposing to study the feasibility of the Hanover Pond Dam Project (proposed project) to be located on Quinnipiac River, near the city of Meriden, in New Haven County, Connecticut. The sole purpose of a preliminary permit, if issued, is to grant the permit holder priority to file a license application during the permit term. A preliminary permit does not authorize the permit holder to perform any land-disturbing activities or otherwise enter upon lands or waters owned by others without the owners' express permission.

The proposed project would consist of the following: (1) An existing 25-foot-high, 430-foot-long earth embankment dam with four low-level, sluice gates and a 242-foot-long concrete spillway; (2) the existing 67.6-acre Hanover Pond with a storage capacity of 1,800 acre-feet at a normal operating elevation of about 87.9 feet above mean sea level; (3) an existing 175-foot-long, 4.0-foot-wide fish ladder; (4) a new 6-foot-high, 10.65-foot-wide hydraulically-powered sluice gate equipped with a new 14-foot-high, 12-foot-wide trashrack with 6-inch bar spacing; (5) a new 115-foot-long, 12-foot-diameter buried precast concrete penstock; (6) a new 50.7-foot-long, 10.65-foot wide Archimedes screw generator unit, with an installed capacity of 165 kilowatts; (7) a new 10-foot-high, 15-foot-long, 15.5-foot-wide concrete powerhouse containing a new gearbox, generator, and electrical controls; (8) a new 55-foot-long, 13.5-foot-wide tailrace; (9) a new 530-foot-long, 35-kilovolt above ground transmission line connecting the powerhouse to Connecticut Light and Power's distribution system; and (10) appurtenant facilities. The estimated annual generation of the proposed Hanover Pond Dam Project would be about 749 megawatt-hours. The existing Hanover Pond Dam, fish ladder, and property on both sides of the river are owned by the city of Meriden.

Applicant Contact: Mr. Michael C. Kerr, New England Hydropower Company, LLC, P.O. Box 5524, Beverly Farms, Massachusetts 01915; phone: (978) 360-2547.

FERC Contact: John Ramer; phone: (202) 502-8969.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14550) in the docket number field to access the document. For assistance, contact FERC Online Support.

Dated: September 30, 2013.
Kimberly D. Bose,
Secretary.

[FR Doc. 2013-24396 Filed 10-7-13; 8:45 am]

BILLING CODE 6717-01-P